DEPARTMENT OF THE INTERIOR

Bureau of Land Management

[WO-310-1310-01-PB-241A and OMB Control Number 1004-0034]

Information Collection Submitted to the Office of Management and Budget Under the Paperwork Reduction Act

The Bureau of Land Management (BLM) has submitted the proposed collection of information listed below to the Office of Management and Budget for approval under the provisions of the Paperwork Reduction Act (44 U.S.C. 3501 et seq.). On February 7, 2003, BLM published a notice in the Federal Register (68 FR 6505) requesting comments on the collection. The comment period closed on April 8, 2003. BLM received one comment. You may obtain copies of the proposed collection of information and related explanatory material by contacting the BLM Information Collection Clearance Officer at the telephone number listed below.

OMB is required to respond to this request within 60 days but may respond after 30 days. For maximum consideration, your comments and suggestions on the requirements should be directed within 30 days to the Office of Management and Budget, Interior Department Desk Officer (1004-0034), at OMB-OIRA via facsimile to (202) 395-6566 or e-mail to OIRA_DOCKET@omb.eop.gov. Please provide a copy of your comments to the BLM Information Collection Clearance Officer (WO-630) Bureau of Land Management, Eastern States Office 7450 Boston Blvd., Springfield, Virginia 22153.

Nature of Comments: We specifically request your comments on the following:

1. Whether the collection of information is necessary for the proper functioning of the agency, including whether the information will have practical utility;

2. The accuracy of our estimates of the information collection burden, including the validity of the methodology and assumptions we use;

3. Ways to enhance the quality, utility, and clarity of the information collected; and

4. Ways to minimize the information collection burden on those who are to respond, including the use of appropriate automated, electronic, mechanical, or other technological collection techniques or other forms of information technology.

Title: Oil and Gas Lease Transfers by Assignment of Record Title or Operating Rights (Sublease) (43 CFR 3106, 3135, 3216).

OMB Approval Number: 1004-0034.

Abstract: Respondents supply information on these forms (3000-3 and 3000-3a) to assign/transfer an interest in an oil and gas or geothermal lease.

Form Numbers: 3000-3 and 3000-3a.

Frequency: On occasion.

Description of Respondents: Individuals, small businesses, large corporations.

Estimated Completion Time: 30 minutes each form.

Annual Responses: 60,000.

Filing Fee Per Response: $25 for oil and gas and $50 for geothermal.

Annual Burden Hours: 30,000.

Bureau Clearance Officer: Ian Senio, (202) 452-5033.

Dated: September 24, 2004.
Ian Senio,
Bureau of Land Management, Information Collection Clearance Officer.

[FR Doc. 04-22094 Filed 9-30-04; 8:45 am]

BILLING CODE 4310-84-M